DEPARTMENT OF ENERGY

Federal Energy Regulatory Commission

Combined Notice of Filings #1

Take notice that the Commission received the following electric corporate filings:

Docket Numbers: EC17-133-000.

Applicants: Beech Ridge Energy LLC, Beech Ridge Energy II LLC, Beech Ridge Energy Storage LLC, Bishop Hill Energy III LLC, Bishop Hill Interconnection LLC, Buckeye Wind Energy LLC, Forward Energy LLC, Grand Ridge Energy LLC, Grand Ridge Energy III LLC, Grand Ridge Energy IV LLC, Grand Ridge Energy V LLC, Grand Ridge Energy Storage LLC, Gratiot County Wind LLC, Gratiot County Wind II LLC, Invenergy TN LLC, Judith Gap Energy LLC, Prairie Breeze Wind Energy II LLC, Prairie Breeze Wind Energy III LLC, Sheldon Energy LLC, Spring Canyon Energy LLC, Stony Creek Energy LLC, Vantage Wind Energy LLC, Wolverine Creek Energy LLC, Wolverine Creek Goshen Interconnection, Willow Creek Energy LLC, Grand Ridge Energy II LLC.

Description: Application for Authorization Under Section 203 of the Federal Power Act and Request for Waivers and Expedited Action of Beech Ridge Energy LLC, et al.

Filed Date: 6/21/17.

Accession Number: 20170621-5186.

Comments Due: 5 p.m. ET 7/12/17.

Take notice that the Commission received the following electric rate filings:

Docket Numbers: ER12-348-005; ER14-2102-001; ER15-1378-001.

Applicants: Mercuria Energy America, Inc., Mercuria Commodities Canada Corporation, Danskammer Energy, LLC.

Description: Updated Triennial Market Analysis for the Northeast Region of the Mercuria Sellers.

Filed Date: 6/21/17.

Accession Number: 20170621-5202.

Comments Due: 5 p.m. ET 8/21/17.

Docket Numbers: ER17-351-002; ER17-354-002.

Applicants: American Falls Solar, LLC, American Falls Solar II, LLC.

Description: Notice of Change in Status of American Falls Solar, LLC, et al.

Filed Date: 6/21/17.

Accession Number: 20170621-5199.

Comments Due: 5 p.m. ET 7/12/17.

Docket Numbers: ER17-1512-000.

Applicants: CinCap V, LLC.

Description: Supplemental Information/Request of CinCap V, LLC.

Filed Date: 6/21/17.

Accession Number: 20170621-5136.

Comments Due: 5 p.m. ET 7/12/17.

Docket Numbers: ER17-1881-000.

Applicants: Southern California Edison Company.

Description: § 205(d) Rate Filing: True-Up Amendment SGIAs Agincourt Solar Project & Marathon Project to be effective 8/22/2017.

Filed Date: 6/22/17.

Accession Number: 20170622-5006.

Comments Due: 5 p.m. ET 7/13/17.

Docket Numbers: ER17-1882-000.

Applicants: Midcontinent Independent System Operator, Inc., Otter Tail Power Company.

Description: § 205(d) Rate Filing: 2017-06-22_SA 2915 Termination of Otter Tail-Minnkota FCA (Warsaw Substation) to be effective 9/30/2016.

Filed Date: 6/22/17.

Accession Number: 20170622-5009.

Comments Due: 5 p.m. ET 7/13/17.

Docket Numbers: ER17-1883-000.

Applicants: Mineral Point Energy LLC.

Description: Baseline eTariff Filing: Mineral Point Energy LLC MBR Filing to be effective 8/21/2017.

Filed Date: 6/22/17.

Accession Number: 20170622-5046.

Comments Due: 5 p.m. ET 7/13/17.

Docket Numbers: ER17-1884-000.

Applicants: Wrighter Energy LLC.

Description: Baseline eTariff Filing: Wrighter Energy LLC MBR Filing to be effective 8/21/2017.

Filed Date: 6/22/17.

Accession Number: 20170622-5047.

Comments Due: 5 p.m. ET 7/13/17.

Docket Numbers: ER17-1885-000.

Applicants: Northern States Power Company, a Minnesota corporation.

Description: Notice of Cancellation of the Transmission Exchange Agreement FERC Electric RS No. 471, as supplemented, of Northern States Power Company, a Minnesota corporation.

Filed Date: 6/22/17.

Accession Number: 20170622-5048.

Comments Due: 5 p.m. ET 7/13/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 22, 2017.
Nathaniel J. Davis, Sr.,
Deputy Secretary.

[FR Doc. 2017-13523 Filed 6-27-17; 8:45 am]

BILLING CODE 6717-01-P